DEPARTMENT OF AGRICULTURE

Food and Nutrition Service

Agency Information Collection Activities: Employment and Training Performance Measurement, Monitoring and Reporting Requirements

AGENCY: Food and Nutrition Service (FNS), USDA.

ACTION: Notice.

SUMMARY: In accordance with the Paperwork Reduction Act of 1995, this notice invites the general public and other public agencies to comment on this proposed information collection. This collection is an extension, without change, of a currently approved collection for annual outcome data for the Supplemental Nutrition Assistance Program (SNAP) Employment and Training (E&T) programs, as mandated by Section 16(h)(5) of the Food and Nutrition Act (FNA) and as amended by section 4022 of the Agricultural Act of 2014.

DATES: Written comments must be received on or before July 8, 2019.

ADDRESSES: Comments may be sent to: Moira Johnston, Director, SNAP, Food and Nutrition Service, U.S. Department of Agriculture, 3101 Park Center Drive, Room 806, Alexandria, VA 22302. Comments may also be submitted via email to moira.johnston@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Moira Johnston at 703-305-2515.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP E&T Performance Measure, Monitoring, and Reporting Requirements.

Form Number: Not applicable.

OMB Number: 0584-0614.

Expiration Date: 9/30/2019.

Type of Request: Extension, without change, of a currently approved collection.

Abstract: Supplemental Nutrition Assistance Program (SNAP) regulations at 7 CFR 273.7(c)(17) requires State agencies to submit annual outcome reports to monitor the effectiveness of SNAP Employment and Training (E&T) programs. State agencies must maintain records in order to support data reported in the annual outcome reports.

The information collected on the annual outcome report includes: (1) The number and percentage of E&T participants who retain employment 2 quarters and 4 quarters after completing E&T; (2) the median wages for participants with earnings 2 quarters after completion of E&T; (3) the number and percentage of participants that completed a training, education, work experience or on-the-job training component; (4) certain unique characteristics of SNAP E&T participants; and (5) additional reporting requirements for State agencies that pledge to serve all at-risk Able-bodied Adults without Dependents (ABAWDs). State agencies are also required to identify appropriate outcome reporting measures for each proposed component that is intended to serve a threshold number of participants of at least 100 a year. The reporting measures for these components are identified in State agencies' E&T plans and the outcome data will be reported to the Food and Nutrition Service (FNS) in State agencies' annual outcome reports. State agencies are required to report outcome data annually.

With this information, FNS will be able to identify more, and less, successful E&T practices and work with State agencies to improve their E&T programs. This process is critical to building a more effective E&T operation nationally that will help move more individuals into the workforce.

State agencies use a combination of methods to collect the outcome data, including existing automated data systems, new data collection, sampling methods, and some direct contact with SNAP E&T participants. FNS estimates that the ongoing additional time burden will average no more than about 231 hours annually per State (about one and a half staff-months) on average (12,233 hours per year for all States).

The breakdown of the 231 hours is itemized in the table below. FNS believes this estimate may be somewhat high since more States have moved to collecting data through automated data systems which requires less time than data collected through direct contact with SNAP E&T participants.

Affected Public: State, Local and Tribal Government. Respondent groups identified include State agencies administering the SNAP E&T program in 50 States, the District of Columbia, Guam, and the U.S. Virgin Islands.

Estimated Number of Respondents: The total estimated number of respondents is 53 State agencies, including the agencies responsible for SNAP administration in 50 States, the District of Columbia, Guam and the U.S. Virgin Islands.

Estimated Number of Responses per Respondent: The 53 State agencies are required to submit data on the outcome report annualy. State agencies will be required to maintain data to support 1 report per year.

Estimated Total Annual Responses: 53.

Estimated Time per Response: The estimated time of response, including recordkeeping and reporting is 32.796 hours per response.

Estimated Total Annual Burden on Respondents: 12,233 hours.

See the table below for estimated total annual burden for each type of respondent.

Estimated Ongoing Reporting and Recordkeeping Burden Hours
Regulation section | Description of activity | Number of respondents | Annual report/record filed | Total annual responses | Average burden hours per response | Total burden hours
272.1(f) Recordkeeping |  | 53 | 1 | 53 | 1 | 53
273.7(c)(17)(i) Reporting | E&T participants who have earnings in the second quarter after completion of E&T | 53 | 1 | 53 | 40 | 2,120
273.7(c)(17)(ii) Reporting | E&T participants who have earnings in the fourth quarter after completion of E&T | 53 | 1 | 53 | 40 | 2,120
273.7(c)(17)(iii) Reporting | Median quarterly earnings | 53 | 1 | 53 | 40 | 2,120
273.7(c)(17)(iv) Reporting | E&T participants that completed a training, educational, work experience or an on-the-job training component within 6 months after completion of participation in E&T | 45 | 1 | 45 | 80 | 3,600
273.7(c)(17)(v) & (vi) Reporting | Characteristics of E&T participants, some broken out by 4 above measures | 53 | 1 | 53 | 20 | 1,060
273.7(c)(17)(vii) Reporting | Measures in a State agencies' E&T plan for components that are designed to serve at least 100 E&T participants a year | 53 | 1 | 53 | 20 | 1,060
273.7(c)(17)(viii) Reporting | Information about ABAWDs from State agencies that have committed to offering them participation in a qualifying activity | 10 | 1 | 10 | 10 | 100
Total Reporting |  | 53 | 7 | 320 | 38 | 12,180
Total Recordkeeping |  | 53 | 1 | 53 | 1 | 53
Total |  | 53 | 7.03774 | 373 | 32.7962 | 12,233

Dated: April 26, 2019.
Brandon Lipps,
Administrator, Food and Nutrition Service.

[FR Doc. 2019-09254 Filed 5-6-19; 8:45 am]

BILLING CODE 3410-30-P